DEPARTMENT OF COMMERCE

Census Bureau

Census 2000 Evaluation Followup Interview

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before June 27, 2000.

ADDRESSES: Direct all written comments to Linda Engelmeier, Departmental Forms Clearance Officer, Department of Commerce, Room 5033, 14th and Constitution Avenue, NW, Washington, DC 20230 (or via the Internet at LEngelme@doc.gov).

FOR FURTHER INFORMATION CONTACT: Requests for additional information or copies of the information collection instrument(s) and instructions should be directed to Dave Raglin, Bureau of the Census, Room BH-121/SFC2, Washington, DC 20233-9200, 301-457-4238.

SUPPLEMENTARY INFORMATION:

I. Abstract

The U.S. Bureau of the Census will conduct an Accuracy and Coverage Evaluation as a quality assurance program to measure coverage of the population in the decennial census. In the Accuracy and Coverage Evaluation, we independently count a sample of housing units and the people living in those units, then compare those results to the census.

The U.S. Bureau of the Census would like to determine the magnitude of and sources of measurement errors in the residence classification of persons in the Accuracy and Coverage Evaluation. To do this the Census Bureau plans to conduct the Evaluation Followup Interview (EFU), a follow-up interview of a subsample of Accuracy and Coverage Evaluation clusters. The types of information collected during the interview will help determine whether or not a person mentioned in the Census or in the Accuracy and Coverage Evaluation Person Interview lived in the housing unit on census day (Saturday April 1, 2000) or on the Accuracy and Coverage Evaluation interview day (sometime between late-April and mid-August, 2000). The information will also help identify possible reasons a person was missed or enumerated in error in the Census or the Accuracy and Coverage Evaluation. This is accomplished by asking the respondent more specific questions than the Accuracy and Coverage Evaluation about specific types of group quarters or other residences a person may have lived at, and by determining if persons have moved in and moved out of a household. The interview will be conducted using the Evaluation Followup Questionnaires, forms D-1301(EFU), the English language version and D-1301(EFU-S), the Spanish language version of the form. The data from the EFU will be used for four Census evaluations.

II. Method of Collection

Person interview.

III. Data

OMB Number: Not available.

Form Number: D-1301(EFU), D-1301(EFU-S)

Type of Review: Regular.

Affected Public: Individuals or households.

Estimated Number of Respondents: 40,000 Housing units.

Estimated Time Per Response: 20 minutes.

Estimated Total Annual Burden Hours: 13,333 hours.

Estimated Total Annual Cost: There is no cost to the respondent other than the time to provide the requested information.

Respondent's Obligation: Mandatory.

Legal Authority: Title 13, United States Code, Sections 141, 193, and 221.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: April 25, 2000.
Madeleine Clayton,
Management Analyst, Office of the Chief Information Officer.

[FR Doc. 00-10652 Filed 4-27-00; 8:45 am]

BILLING CODE 3510-07-P